DEPARTMENT OF LABOR

Employment and Training Administration

[TA-W-50,796]

General Electric Company, GE Lighting Inc. Tungston Products Plant, Euclid, Ohio; Notice of Termination of Investigation

Pursuant to section 221 of the Trade Act of 1974, an investigation was initiated on February 6, 2003 in response to a worker petition filed on behalf of workers at General Electric Company, GE Lighting Inc., Tungston Products Plant, Euclid, Ohio.

The petitioning group of workers is covered by an active certification issued on February 27, 2003 and which remains in effect (TA-W-50,647). Consequently, further investigation in this case would serve no purpose, and the investigation has been terminated.

Signed at Washington, DC this 2nd day of May 2003.
Richard Church,
Certifying Officer, Division of Trade Adjustment Assistance.

[FR Doc. 03-12567 Filed 5-19-03; 8:45 am]

BILLING CODE 4510-30-P